DEPARTMENT OF HOMELAND SECURITY

U.S. Customs and Border Protection

Agency Information Collection Activities: Holders or Containers Which Enter the United States Duty Free

AGENCY: U.S. Customs and Border Protection (CBP), Department of Homeland Security.

ACTION: 60-Day Notice and request for comments; Extension of an existing collection of information.

SUMMARY: As part of its continuing effort to reduce paperwork and respondent burden, CBP invites the general public and other Federal agencies to comment on an information collection requirement concerning the Holders or Containers which Enter the United States Duty Free. This request for comment is being made pursuant to the Paperwork Reduction Act of 1995 (Pub. L. 104-13).

DATES: Written comments should be received on or before January 22, 2013, to be assured of consideration.

ADDRESSES: Direct all written comments to U.S. Customs and Border Protection, Attn: Tracey Denning, Regulations and Rulings, Office of International Trade, 799 9th Street NW., 5th Floor, Washington, DC 20229-1177.

FOR FURTHER INFORMATION CONTACT: Requests for additional information should be directed to Tracey Denning, U.S. Customs and Border Protection, Regulations and Rulings, Office of International Trade, 799 9th Street NW., 5th Floor, Washington, DC 20229-1177, at 202-325-0265.

SUPPLEMENTARY INFORMATION: CBP invites the general public and other Federal agencies to comment on proposed and/or continuing information collections pursuant to the Paperwork Reduction Act of 1995 (Pub. L. 104-13). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (total capital/startup costs and operations and maintenance costs). The comments that are submitted will be summarized and included in the CBP request for Office of Management and Budget (OMB) approval. All comments will become a matter of public record. In this document CBP is soliciting comments concerning the following information collection:

Title: Holders or Containers which Enter the United States Duty Free.

OMB Number: 1651-0035.

Form Number: None.

Abstract: All articles that are brought into the United States are subject to duty unless they are specifically exempt under the Harmonized Tariff Schedules of the United States (HTSUS), codified as 19 U.S.C. 1202. Item 9801.00.10 (HTSUS) provides that articles that were manufactured in the U.S. and exported and returned without having been advanced in value or improved in condition by any process of manufacture may be brought back into the U.S. duty-free. In addition, Item 9803.00.50 (HTSUS) provides for the duty-free entry of substantial holders or containers of foreign manufacture if duty had been paid upon a previous importation pursuant to the provisions of 19 CFR 10.41b.

Although an article may be brought back into the United States without being subject to duty, a consumption entry must nevertheless be made along with the reason for the article not being subject to duty set forth on the entry. However, an importer who brings in merchandise packed in U.S. manufactured containers or holders or previously duty-paid containers or holders, and does so several times a year involving a great many containers or holders, may mark the container or holder with the HTSUS number in lieu of filing of entry papers each time. CBP believes such frequent filing of entry papers for these containers or holders would be overly burdensome to the importer or shipper.

19 CFR 10.41 provides that substantial holders or containers are to have prescribed markings in clear and conspicuous letters of such a size that they will be easily discernable. Section 10.41b of the CBP regulations eliminates the need for an importer to file entry documents by instead requiring the marking of the containers or holders to indicate under which item number of the HTSUS the containers or holders are entitled duty free entry.

In order to comply with 19 CFR 10.41b, the owner of the holder or container is required to place the markings on a metal tag or plate containing the following information: 9801.00.10, HTSUS; the name of the owner; and the serial number assigned by the owner. In the case of serially numbered holders or containers of foreign manufacture for which free clearance under the second provision of item 9803.00.50 HTSUS is claimed, the owner must place the following markings containing the following information: 9803.00.50 HTSUS; the port code numbers of the port of entry; the entry number; the last two digits of the fiscal year of entry covering the importation of the holders and containers on which duty was paid; the name of the owner; and the serial number assigned by the owner.

Action: CBP proposes to extend the expiration date of this information collection with no change to the burden hours or to the information collected.

Type of Review: Extension (without change).

Affected Public: Businesses.

Estimated Number of Respondents: 20.

Estimated Number of Responses per Respondent: 18.

Estimated Number of Total Annual Responses: 360.

Estimated Total Annual Burden Hours: 90.

Dated: November 14, 2012.
Tracey Denning,
Agency Clearance Officer, U.S. Customs and Border Protection.

[FR Doc. 2012-28123 Filed 11-19-12; 8:45 am]

BILLING CODE 9111-14-P